ENVIRONMENTAL PROTECTION AGENCY

[FRL-7795-2]

Science Advisory Board Staff Office; Request for Nominations for the Science Advisory Board Superfund Benefits Analysis Advisory Panel

AGENCY: Environmental Protection Agency (EPA).

ACTION: Notice.

SUMMARY: The EPA Science Advisory Board (SAB) Staff Office announces the formation of a new advisory panel known as the Superfund Benefits Analysis Advisory Panel, and is soliciting nominations for members of the Panel.

DATES: Nominations should be submitted by August 20, 2004 per the instructions below.

FOR FURTHER INFORMATION CONTACT: Any member of the public wishing further information regarding this Request for Nominations may contact Dr. Holly Stallworth, Designated Federal Officer (DFO), via telephone/voice mail at (202) 343-9867; via e-mail at stallworth.holly@epa.gov or at the U.S. EPA Science Advisory Board (1400F), 1200 Pennsylvania Ave., NW., Washington, DC 20460. General information about the SAB can be found on the SAB Web Site at: http://www.epa.gov/sab.

SUPPLEMENTARY INFORMATION:

Background

In 1980, Congress enacted the Comprehensive Environmental Response, Compensation, and Liability Act (CERCLA), commonly known as Superfund. This law authorizes the Federal government to respond directly to releases, or threatened releases, of hazardous substances that may endanger public health, welfare or the environment. There are two basic types of Superfund cleanups: (1) Remedial actions which are generally long-term and more complex cleanups; and (2) removal actions which are generally short-term response actions taken to abate or mitigate imminent substantial threats to human health and the environment.

In 2002, EPA's Office of Solid Waste and Emergency Response (OSWER) initiated a study to enumerate, describe, quantify and, where possible, monetize the benefits of the Superfund program. OSWER is seeking advice from the SAB on the scientific soundness of the methods and analysis in this study.

The SAB is a chartered Federal Advisory Committee, established by 42 U.S.C. 4365, to provide independent scientific and technical advice, consultation, and recommendations to the EPA Administrator on the technical bases for EPA policies and actions. The Advisory Panel will provide advice through the chartered SAB and will comply with the openness provisions of the Federal Advisory Committee Act (FACA) and all appropriate SAB procedural policies. The work of this panel includes reviewing background material, participating in a few public teleconferences, and attending at least two public face-to-face meetings, until the advisory is complete. The specific charge questions to the SAB Panel will be made available prior to the meeting on the SAB Web site at http://www.epa.gov/sab/.

The first meeting of the Advisory Panel will focus on the benefit transfer methods applied to hedonic property studies and the proposed methods for quantifying specific effect, including ecological and health effects. In a later meeting, the Advisory Panel will provide advice on the completed study.

EPA Technical Contact

The draft Superfund Benefits Analysis will be available on EPA's OSWER website at: http://www.epa.gov/superfund. Ms. Melissa Friedland of OSWER is the EPA technical contact and may be contacted at (703) 603-8864 or at friedland.melissa@epa.gov.

Request for Nominations

The SAB Staff Office is requesting nominations of recognized experts with one or more of the following areas of expertise to serve on the SAB Superfund Benefits Analysis Advisory Panel: (a) Hazardous waste management; (b) valuation for cost-benefit analysis, specifically hedonic pricing models and methods; (c) ecological risk assessment; (d) public health and epidemiology, and (e) toxicology and human health risk assessment of toxic chemicals.

Process and Deadline for Submitting Nominations

Any interested person or organization may nominate individuals qualified in the areas of expertise described above to serve on the SAB Superfund Benefits Analysis Advisory Panel. Nominations should be submitted in electronic format through the Form for Nominating Individuals to Panels of the EPA Science Advisory Board which can be accessed through a link on the blue navigational bar on the SAB Web site at: http://www.epa.gov/sab. To be considered, all nominations must include the information requested on that form.

Anyone who is unable to submit nominations using this form and anyone with questions concerning any aspects of the nomination process may contact the DFO, as indicated above in this notice. Nominations should be submitted in time to arrive no later than August 20, 2004. Any questions concerning either this process or any other aspects of this notice should be directed to the DFO. The process for forming an SAB panel is described in the Overview of the Panel Formation Process at the Environmental Protection Agency, Science Advisory Board (EPA-SAB-EC-COM-02-010), on the SAB Web site at: http://www.epa.gov/sab/pdf/ecm02010.pdf.

The SAB Staff Office will acknowledge receipt of the nomination and inform nominators of the panel selected. From the nominees identified by respondents to this Federal Register notice (termed the “Widecast”), the SAB Staff Office will develop a smaller subset (known as the “Short List”) for more detailed consideration. The Short List will be posted on the SAB Web Site at: http://www.epa.gov/sab, and will include, for each candidate, the nominee's name and biosketch. Public comments on the Short List will be accepted for 21 calendar days. During this comment period, the public will be requested to provide information, analysis or other documentation on nominees that the SAB Staff Office should consider in evaluating candidates for the Panel.

For the SAB, a balanced panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff Office independently of the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Short List candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: July 26, 2004.
Vanessa T. Vu,
Director, EPA Science Advisory Board Staff Office.

[FR Doc. 04-17376 Filed 7-29-04; 8:45 am]

BILLING CODE 6560-50-P